DEPARTMENT OF HOMELAND SECURITY

Coast Guard

[Docket No. USCG-2010-1110]

Shipboard Air Emission Reduction Technology Report

AGENCY: Coast Guard, DHS.

ACTION: Notice and request for comments.

SUMMARY: In Section 305 of the Coast Guard Authorization Act of 2010, Congress directs the Secretary of the Department in which the Coast Guard is operating to conduct a study, in conjunction with the Environmental Protection Agency, on Ship Emission Reduction Technology for cargo and passenger vessels that operate in United States waters and ports. For this study, the Coast Guard and the Environmental Protection Agency will survey new technology and new applications of existing technology for reducing air emissions from cargo and passenger vessels regulated under the Clean Air Act and the Act to Prevent Pollution from Ships, and identify the impediments, including any laws or regulations, to the implementation of this technology. Through this notice, the Coast Guard and the Environmental Protection Agency invite the public to provide information on the state of current and future air emission reduction technology, including specific comments on any impediments to this technology.

DATES: Comments and related material must either be submitted to our online docket via http://www.regulations.gov on or before January 18, 2011 or reach the Docket Management Facility by that date.

ADDRESSES: You may submit comments identified by docket number USCG-2010-1110 using any one of the following methods:

(1) Federal eRulemaking Portal: http://www.regulations.gov.

(2) Fax: 202-372-1925.

(3) Mail: Docket Management Facility (M-30), U.S. Department of Transportation, West Building Ground Floor, Room W12-140, 1200 New Jersey Avenue, SE., Washington, DC 20590-0001.

(4) Hand delivery: Same as mail address above, between 9 a.m. and 5 p.m., Monday through Friday, except Federal holidays. The telephone number is 202-366-9329.

To avoid duplication, please use only one of these four methods. See the “Public Participation and Request for Comments” portion of the SUPPLEMENTARY INFORMATION section below for instructions on submitting comments.

FOR FURTHER INFORMATION CONTACT: If you have questions on this notice, call or e-mail LT Nicholas Woessner, U.S. Coast Guard; telephone 202-372-1307, e-mail Nicholas.A.Woessner@uscg.mil. If you have questions on viewing or submitting material to the docket, call Renee V. Wright, Program Manager, Docket Operations, telephone 202-366-9826.

SUPPLEMENTARY INFORMATION:

Public Participation and Request for Comments

We encourage you to submit comments and related material to be incorporated into the Shipboard Air Emission Reduction Technology report to Congress. All comments received will be posted, without change, to http://www.regulations.gov and will include any personal information you have provided.

Submitting comments: If you submit a comment, please include the docket number for this notice (USCG-2010-1110) and provide a reason for each suggestion or recommendation. You may submit your comments and material online, or by fax, mail or hand delivery, but please use only one of these means. We recommend that you include your name and a mailing address, an e-mail address, or a telephone number in the body of your document so that we can contact you if we have questions regarding your submission.

To submit your comment online, go to http://www.regulations.gov, click on the “submit a comment” box, which will then become highlighted in blue. In the “Document Type” drop down menu select “Notices” and insert “USCG-2010-1110” in the “Keyword” box. Click “Search” then click on the balloon shape in the “Actions” column. If you submit your comments by mail or hand delivery, submit them in an unbound format, no larger than 8½ by 11 inches, suitable for copying and electronic filing. If you submit them by mail and would like to know that they reached the Facility, please enclose a stamped, self-addressed postcard or envelope. We will consider all comments and material received during the comment period.

Viewing the comments: To view the comments for the report to Congress on Ship Emission Reduction Technology, go to http://www.regulations.gov, click on the “read comments” box, which will then become highlighted in blue. In the “Keyword” box insert “USCG-2010-1110” and click “Search.” Click the “Open Docket Folder” in the “Actions” column. If you do not have access to the internet, you may view the docket online by visiting the Docket Management Facility in Room W12-140 on the ground floor of the Department of Transportation West Building, 1200 New Jersey Avenue SE., Washington, DC 20590, between 9 a.m. and 5 p.m., Monday through Friday, except Federal holidays. We have an agreement with the Department of Transportation to use the Docket Management Facility.

Privacy Act: Anyone can search the electronic form of comments received into any of our dockets by the name of the individual submitting the comment (or signing the comment, if submitted on behalf of an association, business, labor union, etc.). You may review a Privacy Act, system of records notice regarding our public dockets in the January 17, 2008, issue of the Federal Register (73 FR 3316).

Background and Purpose

The U.S. implemented the Clean Air Act, Title 42 of the U.S. Code, Chapter 85, and the Act to Prevent Pollution from ships, 33 U.S.C. 1905-1915, by promulgating regulations for ship air emissions in Title 40, Protection of Environment, sections 50-99 of the Code of Federal Regulations and ratifying the International Convention for the Prevention of Pollution from Ships, 1973, as modified by the Protocol of 1978 (MARPOL) Annex VI. These regulations require the reduction of nitrous oxides (NOX), sulfur oxides (SOX), and particulate matter (PM) emissions from ships. Additionally, the U.S. has established an emission control area (ECA) for the U.S. under MARPOL Annex VI that further limits NOX and SOX emissions from ships. Title 40 of the Code of Federal Regulations and MARPOL Annex VI apply to both new and existing ships and will require the commercial maritime industry to implement new technology that will reduce NOX, SOX and PM emissions from all ships.

In developing the ship air emission regulations, the Coast Guard and the Environmental Protection Agency worked with industry and other stakeholders to identify and evaluate emission control technology for ships.¹ At this time, the Coast Guard and the Environmental Protection Agency seek additional information about new and existing technology for reducing these air emissions from cargo or passenger vessels subject to Title 40 of the Code of Federal Regulations and/or MARPOL Annex VI. It also seeks to identify impediments, including any laws or regulations, to implementing this technology.

¹ U.S. Environmental Protection Agency, “Regulatory Impact Analysis: Control of Air Pollution from Category 3 Marine Diesel Engines, EPA-420-R-09-019, December 2009.

We are particularly interested in information that includes details about:

—Data and analysis from the maritime community concerning the state of their air emission reduction technologies;

—The technology relating to after-treatment systems, alternative fuels, advanced engine design, auxiliary equipment, and other pertinent processes;

—The projected or measured percent reduction of air emissions achieved from specific equipment;

—Any adverse impacts, safety implications, or any system integration effects with other shipboard equipment;

—Potential capital and operating costs or savings of the equipment's implementation.

Please consider the following questions when responding to this notice:

(A) What new technology exists for reducing air emissions from cargo or passenger ships?

(B) What is the availability of such technology?

(C) What methods or equipment are currently under development that may be able to meet the MARPOL Annex VI requirements?

(D) Are methods or equipment being applied for similar purposes in other transportation modes or industries (e.g., military, rail, over-the-road truck industries, manufacturing, power) that merit investigation for use aboard vessels?

Authority

This notice is issued under authority of 5 U.S.C. 552(a) and 14 U.S.C. 93(a)(4).

Dated: December 17, 2010.
J. G. Lantz,
Director of Commercial Regulations and Standards, U.S. Coast Guard.

[FR Doc. 2010-32193 Filed 12-22-10; 8:45 am]

BILLING CODE 9110-04-P